SECURITIES AND EXCHANGE COMMISSION

[File No. 500-1]

In the Matter of Agent155 Media Corp., QSound Labs, Inc., STEN Corp., and Wind Energy America, Inc.; Order of Suspension of Trading

February 27, 2015.

It appears to the Securities and Exchange Commission that there is a lack of current and accurate information concerning the securities of Agent155 Media Corp. because it has not filed any periodic reports since the period ended September 30, 2011.

It appears to the Securities and Exchange Commission that there is a lack of current and accurate information concerning the securities of QSound Labs, Inc. because it has not filed any periodic reports since the period ended December 31, 2007.

It appears to the Securities and Exchange Commission that there is a lack of current and accurate information concerning the securities of STEN Corp. because it has not filed any periodic reports since the period ended September 28, 2008.

It appears to the Securities and Exchange Commission that there is a lack of current and accurate information concerning the securities of Wind Energy America, Inc. because it has not filed any periodic reports since the period ended June 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 27, 2015, through 11:59 p.m. EDT on March 12, 2015.

By the Commission.
Jill M. Peterson,
Assistant Secretary.

[FR Doc. 2015-04450 Filed 2-27-15; 4:15 pm]

BILLING CODE 8011-01-P